GENERAL SERVICES ADMINISTRATION

Office of Governmentwide Policy

Revision of SF 129, Solicitation Mailing List Application

AGENCY: Office of Governmentwide Policy, GSA.

ACTION: Notice.

SUMMARY: The General Services Administration, Office of the Chief Acquisition Officer, has revised SF 129, Solicitation Mailing List Application. The data on this form is now collected on the following Web site: http://www.ccr.gov. This Web site is the official form. In July of 2003, the paper construction was cancelled and can no longer be used. Effective immediately, data can only be submitted through the above-cited Web site. No paper form will be accepted.

FOR FURTHER INFORMATION CONTACT: Regulatory and Federal Assistance Publication Division, (202) 501-4755.

DATES: Effective November 3, 2004.

Dated: October 28, 2004.
Barbara M. Williams,
Deputy Standard and Optional Forms Management Officer.

[FR Doc. 04-24526 Filed 11-2-04; 8:45 am]

BILLING CODE 6820-34-M